SMALL BUSINESS ADMINISTRATION

[Disaster Declaration #15495 and #15496; OHIO Disaster Number OH-00054]

Presidential Declaration Amendment of a Major Disaster for Public Assistance Only for the State of Ohio

AGENCY: U.S. Small Business Administration.

ACTION: Amendment 1.

SUMMARY: This is an amendment of the Presidential declaration of a major disaster for Public Assistance Only for the State of Ohio (FEMA-4360-DR), dated 04/17/2018.

Incident: Severe Storms, Flooding, and Landslides.

Incident Period: 02/14/2018 through 02/25/2018.

DATES: Issued on 05/24/2018.

Physical Loan Application Deadline Date: 06/18/2018.

Economic Injury (EIDL) Loan Application Deadline Date: 01/17/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Ohio, dated 04/17/2018, is hereby amended to include the following areas as adversely affected by the disaster.

Primary Counties: Coshocton, Harrison, Jefferson, Morgan

All other information in the original declaration remains unchanged.

(Catalog of Federal Domestic Assistance Number 59008)

James Rivera,
Associate Administrator for Disaster Assistance.

[FR Doc. 2018-11967 Filed 6-4-18; 8:45 am]

BILLING CODE 8025-01-P